DEPARTMENT OF TRANSPORTATION

Federal Motor Carrier Safety Administration

Safety Advisory: Unauthorized Cargo Tanks Used To Transport Hazardous Materials

AGENCY: Federal Motor Carrier Safety Administration (FMCSA).

ACTION: Notice of identification of unauthorized cargo tanks.

SUMMARY: This notice identifies unauthorized cargo tanks and removes them from service. The FMCSA has identified non-conforming cargo tanks as the result of compliance reviews assessing compliance with Hazardous Materials Regulations. This action notifies tank owners that these tanks are not authorized to transport hazardous materials, and ensures their removal from service. The FMCSA notifies the public that MC-331 cargo tank motor vehicles assembled with designs T-5314, certified 3-10-1997 and T-5602-A, certified 9-12-1997 by Chemical Transportation Engineering Consultants, Inc., Lubbock, TX do not meet the minimum design requirements for a specification cargo tank and are no longer authorized to transport hazardous materials requiring a specification package. These tanks are no longer authorized because the rear end protection devices for these cargo tanks do not meet the minimum regulatory requirements. There is a high probability that a failure of these devices could occur during a rear end collision resulting in serious injury, death and property damage.

FOR FURTHER INFORMATION CONTACT: Mr. Joe DeLorenzo, (708) 283-3572. Midwest Service Center, Federal Motor Carrier Safety Administration, U.S. Department of Transportation, 19900 Governors Drive, Suite 210, Olympia Fields, IL 60461. Office hours are from 7:30 a.m. to 4:15 p.m., e.t., Monday through Friday, except Federal holidays.

SUPPLEMENTARY INFORMATION:

Electronic Access

An electronic copy of this document may be viewed and downloaded from the internet at http://dms.dot.gov.

Background

The FMCSA has the responsibility to ensure cargo tanks are designed and constructed in accordance with the DOT specifications. This authority is granted pursuant to 49 U.S.C. 5101 et seq., as delegated to the FMCSA by the Secretary of Transportation in 49 C.F.R. 1.73(d)(1). To accomplish this mission, FMCSA performs compliance reviews of cargo tank manufacturers and assemblers and verifies the design and analysis of these cargo tanks with the recommended best practices identified in FMCSA's Guidelines for Structural Evaluation of Cargo Tanks, 1st edition, June 1996.

Although FMCSA has no recall authority, we utilize other means to remove unsafe cargo tanks from HM service until defects are corrected. Historically, FMCSA has utilized consent agreements that offer a reduction in the assessment of civil penalties if the cargo tank manufacturers and assemblers will recall and repair these defective tanks. Unfortunately there have been situations where this strategy has not always been effective and the FMCSA officially notified customers using defective cargo tanks by publishing a Safety Advisory Notice in the Federal Register. A recent example of the Safety Advisory Notice in the Federal Register was the identification of non-conforming cargo tanks manufactured by Acro Trailer Company, Springfield, MO. (attached)

On separate occasions, investigators of the Federal Motor Carrier Safety Administration (FMCSA), performed compliance reviews on Bulk Truck and Transport in Hanover, IN and Eagle Fabrication and Repair, Oak Harbor, OH. These reviews discovered that both facilities were performing functions of a cargo tank assembler by attaching rear end protection devices (bumpers) to cargo tanks. These bumpers were certified by design certifying engineers from Chemical Transportation Equipment Consultants (CTEC), Lubbock, TX to meet the requirements of 49 CFR 178.337-10. An analysis of CTEC's calculations for the design of the bumpers by structural engineers from the FHWA discovered that these bumpers failed to meet the minimum design requirements. FMCSA performed a second level independent analysis of these calculations that verified the results of the FHWA engineers. FMCSA then hired an independent consulting firm specializing in the design and analysis of cargo tanks to perform a third level review of the calculations and verify the results. Their results verified the initial and second level review that the bumpers failed to meet the minimum design requirements of the regulations.

Eagle Fabrication and Repair and Bulk Tank and Transport accepted in good faith the certification of the rear end protection device (bumper) from CTEC. An enforcement case was initiated against CTEC in an effort to remove and repair these unauthorized cargo tanks. The enforcement action resulted in the Agency issuing a Final Order served on April 9, 2001 and effective on May 24, 2001. This final order assessed CETC a civil penalty of $10,000 for violations of the HM regulation. CTEC has failed to respond to the Final Order, failed to provide design modifications to repair these unauthorized tanks, and is no longer in business. There are at least 300 cargo tanks that have not been modified to comply with the requirements. The issuance of the attached Federal Register Safety Advisory Notice will remove these unsafe cargo tanks from hazardous materials service by accomplishing the following:

• Notify the owners that these tanks are no longer authorized to transport hazardous materials requiring a specification cargo tank.

• Provide sufficient knowledge and willfulness for FMCSA to initiate enforcement action against any carrier who uses one of these non-conforming tanks to transport hazardous materials requiring a specification cargo tank.

• Fulfill FMCSA's responsibility for the safe transportation of hazardous materials.

Our compliance and enforcement strategies that will be utilized to ensure these unsafe cargo tanks are removed from specification service will include the following:

• The Midwest Service Center will identify the cargo tanks based on sales records or other documents from the manufacturers.

• Provide a copy of the Federal Register Notice to each owner via certified mail, return receipt requested. This written correspondence will also request the carrier to provide clear and convincing documentation the cargo tank motor vehicle has been modified or is no longer complying with specifications and operating as a cargo tanker.

• Use compliance reviews and other verification tools to determine if the motor carriers that are operating these tanks have made the modifications and initiate enforcement when appropriate.

• Provide the field staff a list of serial numbers, unit numbers or other unique identifier to enable the field staff and our state partners to effectively identify these tanks and provide guidance documents to determine if the modifications have been made on these tanks.

Cargo tanks represented, marked, certified or sold as a specification package for use in the bulk transportation of hazardous materials must be designed and constructed in accordance with 49 CFR 178 of the Hazardous Materials Regulations (HMR). One of the primary uses of an MC-331 cargo tank is the transportation of liquefied compressed gases. Due to the increased risk associated with the transportation of these types of material, the design specification for an MC-331 cargo tank requires these tanks to be protected from damage during rear-end or overturn accidents.

Specification MC-331 cargo tanks are manufactured in accordance with 49 CFR 178.337. This specification includes various requirements for protecting the integrity of the tank and its fittings in case of an accident. Of concern in this notice is the requirement for rear end protection devices (rear bumper) found in 49 CFR 178.337-10(d). This section states that:

Each cargo tank shall be provided with at least one rear bumper designed to protect the tank and piping in the event of a rear end collision and minimize the possibility of any part of the colliding vehicle striking the tank. The design shall be such as to transmit the force of a rear end collision in a horizontal line to the chassis of the vehicle. The bumper shall be designed to withstand the impact of the fully loaded vehicle with a deceleration of 2 “g”, using a safety factor of four based on the ultimate strength of the bumper material. The bumpers shall conform dimensionally to § 393.86, chapter III of this title.

The key provisions of this section are:

(1) Use of a safety factor of 4, and

(2) Basing this safety factor on the ultimate strength of the material. This means the appropriate ultimate strength of the material, such as tension, compression, shear or bending as appropriate.

During a compliance review of an MC-331 cargo tank motor vehicle assembler conducted by the Federal Motor Carrier Safety Administration (FMSCA), it was discovered that rear bumpers designed and certified by Chemical Transportation Engineering Consultants, Inc. (CTEC) did not meet the requirements of 49 CFR 178.337-10(d) of the Hazardous Materials Regulations. Engineering analysis performed on the design concluded that the rear end protection device (bumper) failed to meet the requirements of the specification. Subsequently, an independent consultant at the request of the FMCSA conducted an additional analysis and arrived at the same conclusions. They are as follows:

• CTEC incorrectly defined the “ultimate strength” of the material as the ultimate tensile strength when analyzing bolts subject to shear forces. As used in § 178.337-10(d) “it means that the strength of the material corresponding to the structural action under investigation (i.e., tension, compression, shear, bending) is to be employed” (Kulak). Shear strength is approximately 62 percent of the tensile strength.

• A safety factor of 4 is clearly required by § 178.337-10(d) when calculating the required strength of the bolts.

• When applying both the safety factor of 4 and considering the shear strength of the bolts as required by the regulation, the design of CTEC's rear end protection device (bumper) clearly does not meet the minimum requirements of § 178.337-10(d).

This design was prepared and certified by CTEC and sold to Eagle Fabrication and Repair, Oak Harbor, OH (Eagle). Eagle properly accepted the certification provided by CTEC and manufactured rear end protection devices in accordance with the designs provided by CTEC. These rear end protection devices were installed on cargo tank motor vehicles by Eagle and sold to other cargo tank motor vehicle assemblers for installation on cargo tank motor vehicles.

Because these tanks were not equipped with a rear end protection devices designed and constructed in accordance with 49 CFR 178.337-10(d) of the Hazardous Materials Regulations, these cargo tank motor vehicles may not be represented as specification cargo tanks and may not be represented, marked, certified or sold as a specification package used to transport hazardous materials.

During a separate investigation another rear end protection device (bumper) design was discovered that failed to meet the requirements of 49 CFR 178.337-10(b). This design was prepared and certified by CTEC and sold to Bulk Truck and Transport (BT & T), Hanover, IN. BT&T properly accepted the certification provided by CTEC and manufactured rear end protection devices (bumpers) in accordance with CTEC's design. A Federal Highway Administration (FHWA) structural engineer performed engineering analysis on the design and concluded that the rear end protection device (bumper) failed to meet the requirements of the specification because CTEC failed to include the safety factor of four in the engineering analysis as required by the regulations. This preliminary analysis was reviewed by an engineer with the Federal Motor Carrier Safety Administration (FMCSA) (formerly the FHWA Office of Motor Carrier Safety) and determined to be scientifically valid.

Corrective Action to be Taken

Because the tanks equipped with rear end protection devices (bumpers) manufactured using CTEC deigns T-5314 and T-5062 failed to meet the minimum requirements of 49 CFR 178.337-10, they may not be represented, marked, certified or sold as a specification cargo tank and may not be used to transport hazardous materials that require a specification cargo tank. Motor carriers who commit knowing and willful violations of the Federal Hazardous Materials Regulations may be subject to civil and criminal penalties.

Cargo tanks assembled with the rear end protection device (bumper) design specified in this notice may only be used to transport hazardous materials if the rear end protection (bumper) device has been modified to a design that meets the requirements of 49 CFR 178.337-10. Cargo tanks which have not had appropriate modifications performed to comply with 49 CFR 178.337-10(d) must have the specification plate removed, obliterated, or covered and these tanks may not be used to transport hazardous materials requiring a specification cargo tank.

During the compliance review process fundamental errors were discovered in the engineering calculations by CTEC. These engineering calculation errors indicate other designs prepared and certified by CTEC may also not comply with the rear end protection device (bumper) requirements of the MC-331 cargo tank specification. The FMCSA is encouraging the owners of cargo tanks with rear end protection devices and anchoring systems designed and certified by CTEC to have these designs reviewed by a Design Certifying Engineer (DCE) for compliance with the requirements of the regulation.

Issued on: December 5, 2001.
Joseph M. Clapp,
Administrator.

[FR Doc. 01-30641 Filed 12-11-01; 8:45 am]

BILLING CODE 4910-EX-P